DEPARTMENT OF COMMERCE

National Oceanic and Atmospheric Administration

[RTID 0648-XA251]

Pacific Fishery Management Council; Public Meeting

AGENCY: National Marine Fisheries Service (NMFS), National Oceanic and Atmospheric Administration (NOAA), Commerce.

ACTION: Notice of a public meeting.

SUMMARY: The Pacific Fishery Management Council (Pacific Council, Council) will hold an online meeting of its Scientific and Statistical Committee (SSC) Coastal Pelagic Species Subcommittee to review model specifications regarding the Pacific sardine rebuilding plan Rebuilder tool. This meeting is open to the public.

DATES: The online meeting will be held Wednesday, July 15, 2020 through Thursday, July 16, 2020. The meeting will run 8:30 a.m. to 1 p.m. Pacific Daylight Time each day, or until business for the day has been completed.

ADDRESSES: The meeting will be held as an online meeting. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The estimated biomass of Pacific sardine fell below the minimum stock size threshold of 50,000 metric tons, based on the 2019 stock assessment. The Council and NMFS are required to develop a rebuilding plan, which is scheduled for Council adoption at its September 2020 meeting. The primary purpose of the July 15-16 SSC Subcommittee meeting is to provide review and advice on developing proposed rebuilding alternatives relative to the Pacific sardine rebuilding plan. Specific objectives will include: (1) Establishing a stock-recruitment relationship and associated uncertainty, (2) establishing Tmin, Tmax, and Bmsy, (3) setting other model parameters, (4) application of the rebuilder for the Council's rebuilding alternatives, and (5) reviewing model outputs for the development and analysis of alternatives. The meeting will also include discussion of 2021 stock assessments for coastal pelagic species. Other technical aspects of the sardine rebuilding plan may also be considered, as appropriate. Members of the Council's Coastal Pelagic Species Management Team are responsible for developing the sardine rebuilding plan and are expected to be active participants in the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: June 24, 2020.
Tracey L. Thompson,
Acting Deputy Director, Office of Sustainable Fisheries, National Marine Fisheries Service.

[FR Doc. 2020-13964 Filed 6-26-20; 8:45 am]

BILLING CODE 3510-22-P